SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before April 9, 2010.

ADDRESSES: Send all comments regarding whether this information collection is necessary for the proper performance of the function of the agency, whether the burden estimates are accurate, and if there are ways to minimize the estimated burden and enhance the quality of the collection, to Sandra Johnston, Program Analyst, Office of Financial Assistance, Small Business Administration, 409 3rd Street, 7th Floor, Washington, DC 20416.

FOR FURTHER INFORMATION CONTACT: Sandra Johnston, Office of Financial Assistance, 202-205-7528, sandra.johnston@sba.gov. Curtis B. Rich, Management Analyst, 202-205-7030, curtis.rich@sba.gov.

SUPPLEMENTARY INFORMATION: This Form is used to assist borrowers (20% or greater owners, corporate officers, or loan guarantors) in preparing their total net worth by listing all of their assets and liabilities, including current income.

Title: “Personal Financial Statement.”

Description of Respondents: On Occasion.

Form Number: 413.

Annual Responses: 91,937.

Annual Burden: 137,095.

ADDRESSES: Send all comments regarding whether this information collection is necessary for the proper performance of the function of the agency, whether the burden estimates are accurate, and if there are ways to minimize the estimated burden and enhance the quality of the collection, to Rachel Newman-Karton, Program Analyst, Office of Small Business Development Centers, Small Business Administration, 409 3rd Street, 6th Floor, Washington, DC 20416.

FOR FURTHER INFORMATION CONTACT: Rachel Newman-Karton, Office of Small Business Development Centers, 202-619-1816, rachel.nnewman-karton@sba.gov. Curtis B. Rich, Management Analyst, 202-205-7030, curtis.rich@sba.gov.

SUPPLEMENTARY INFORMATION: SBA's resource partners are required under their cooperative agreement with the agency to provide business management training to small business owners and nascent owners. This information is needed by SBA to monitor the quality of the training Small Businesses receive from SCORE and other Co-Sponsored and Resources Partners.

Title: “Training Program Evaluation.”

Description of Respondents: On Occasion.

Form Number: 20.

Annual Responses: 200,000.

Annual Burden: 40,000.

Jacqueline White,
Chief, Administrative Information Branch.

[FR Doc. 2010-2617 Filed 2-5-10; 8:45 am]

BILLING CODE 8025-01-P